DEPARTMENT OF ENERGY

Federal Energy Regulatory Commission

[Docket No. RP04-51-000]

Paiute Pipeline Company; Notice of Rescheduling of Technical Conference

February 4, 2004.

In its Order issued December 4, 2003,¹ the Commission directed that a technical conference be held to better understand several aspects of Paiute Pipeline Company's November 7, 2003 tariff filing pertaining to segmentation and backhaul transportation.

¹ Paiute Pipeline Company, 105 FERC ¶ 61,271

Take notice that the technical conference has been rescheduled for Wednesday, February 25, 2004 at 10 a.m., in a room to be designated at the offices of the Federal Energy Regulatory Commission, 888 First Street, NE., Washington, DC 20426.

All interested persons and staff are permitted to attend. Parties that wish to participate by phone should contact Sharon Dameron at (202) 502-8410 or at sharon.dameron@ferc.gov no later than Wednesday, February 18, 2004.

Magalie R. Salas,
Secretary.

[FR Doc. E4-261 Filed 2-11-04; 8:45 am]

BILLING CODE 6717-01-P